DEPARTMENT OF ENERGY

Energy Information Administration

Agency Information Collection Activities: Proposed Collection; Comment Request, Correction

AGENCY: Energy Information Administration (EIA), Department of Energy (DOE).

ACTION: Agency Information Collection Activities: Proposed Collection; Comment Request, Correction.

Correction—In notice document 03-7924 appearing on page 16008 in the issue of Wednesday, April 2, 2003, make the following correction:

The date in the II. Current Actions section should be 2006, rather than 2003.

Issued in Washington, DC, April 3, 2003.
Jay H. Casselberry,
Agency Clearance Officer, Statistics and Methods Group, Energy Information Administration.

[FR Doc. 03-8516 Filed 4-7-03; 8:45 am]

BILLING CODE 6450-01-P